COURT SERVICES AND OFFENDER SUPERVISION AGENCY

Agency Information Collection Activities: Proposed Collection; Comment Request; Generic Clearance for the Collection of Qualitative Feedback on Agency Service Delivery

AGENCY: Court Services and Offender Supervision Agency, CSOSA.

ACTION: 30-Day Notice and request for comments.

SUMMARY: As part of a federal government-wide effort to streamline the process to seek feedback from the public on service delivery, CSOSA is seeking comment on the development of the following proposed Generic Information Collection Request (Generic ICR): “Generic Clearance for the Collection of Qualitative Feedback on Agency Service Delivery” for approval under the Paperwork Reduction Act (PRA) (44 U.S.C. 3501 et seq.). This notice announces our intent to submit this collection to OMB for approval and solicit comments on specific aspects for the proposed information collection. The Agency did not receive any comments in response to the 60-Day notice published in the Federal Register on April 22, 2013, 77 FR 23755.

DATES: Consideration will be given to all comments received by August 22, 2013.

ADDRESSES: You may submit written comments to, the Office of Information and Regulatory Affairs, Office of Management and Budget, Attn: CSOSA Desk Officer and to: oira_submission@omb.eop.gov. A copy of any comments should be sent to: Rorey Smith, Deputy General Counsel and Chief Privacy Officer, Office of General Counsel, Court Services and Offender Supervision Agency, 633 Indiana Avenue NW., Room 1390, Washington, DC 20004 or to Rorey.Smith@csosa.gov. All comments should reference the title of the collection, “Generic Clearance for the Collection of Qualitative Feedback on Agency Service Delivery.”

Request For Comments: Comments submitted in response to this notice will be summarized and/or included in the request for OMB approval. Comments are invited on: (a) Whether the collection of information is necessary for the proper performance of the functions of the agency, including whether the information shall have practical utility; (b) the accuracy of the agency's estimate of the burden of the collection of information including the validity of the methodology and the assumptions used; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Comments submitted in response to this notice may be made available to the public. For this reason, please do not include in your comments information of a confidential nature, such as sensitive personal information or proprietary information. If you send an email comment, your email address will be automatically captured and included as part of the comment that is placed in the public docket and may be made available on the Internet. Please note that responses to this public comment request containing any routine notice about the confidentiality of the communication will be treated as public comments that may be made available to the public notwithstanding the inclusion of the routine notice.

For Further Information on the Collection Contact: Rorey Smith, Deputy General Counsel and Chief Privacy Officer, Office of General Counsel, Court Services and Offender Supervision Agency, 633 Indiana Avenue NW., Room 1380, Washington, DC 20004, (202) 220-5797 or to Rorey.Smith@csosa.gov.

For content support: Diane Bradley, Assistant General Counsel, Office of General Counsel, Court Services and Offender Supervision Agency, 633 Indiana Avenue NW., Room 1375, Washington, DC 20004, (202) 220-5364 or to Diane.Bradley@csosa.gov.

SUPPLEMENTARY INFORMATION: Title: Generic Clearance for the Collection of Qualitative Feedback on Agency Service Delivery.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

Described below is an overview of the information collection, the projected average estimates for the next three years of the total number of respondents and responses, and the amount of time estimates:

Current Actions: New collection of information.

Type of Review: New Collection.

Affected Public: Individuals currently or recently under court-ordered supervision by CSOSA, CSOSA stakeholders including members of the community (e.g., DC residents who attend CSOSA community justice advisory network meetings) and criminal justice systems (e.g., judges, parole commissioners, etc.).

Estimated Number of Respondents: 1340.

Average Expected Annual Number of activities: 3.

Average number of Respondents per Activity: 447.

Annual responses: 1340.

Frequency of Response: Once per request.

Average minutes per response: 7.

Burden hours: 145.

An agency may not conduct or sponsor and a person is not required to respond to a collection of information unless it displays a current and valid Office of Management and Budget control number.

Dated: July 18, 2013.
Rorey Smith,
Deputy General Counsel, Court Services and Offender Supervision Agency.

[FR Doc. 2013-17650 Filed 7-22-13; 8:45 am]

BILLING CODE 3129-01-P